DEPARTMENT OF EDUCATION

Extension of Application Deadline Date; Applications for New Awards; Postsecondary Student Success Program

AGENCY: Office of Postsecondary Education, Department of Education.

ACTION: Notice.

SUMMARY: On August 12, 2022, the Department of Education (Department) published in the Federal Register a notice inviting applications (NIA) for new awards for fiscal year (FY) 2022 for the Postsecondary Student Success Program, Assistance Listing Number 84.116M. The NIA established a deadline date of October 11, 2022, for the transmittal of applications. For eligible applicants that are affected applicants (as described in Eligibility below), located in Puerto Rico, portions of Alaska covered by a Presidential major disaster declaration, and areas under a Presidential major disaster or emergency declaration resulting from Hurricane Ian, which includes Florida, the Seminole Tribe of Florida, North Carolina, and South Carolina, this notice extends the deadline date for transmittal of applications until October 18, 2022.

DATES: Deadline for Transmittal of Applications for Affected Applicants: October 18, 2022.

FOR FURTHER INFORMATION CONTACT: Nemeka Mason, U.S. Department of Education, 400 Maryland Avenue SW, Room 2C102, Washington, DC 20202-4260. Telephone: (202) 453-5650. Email: Nemeka.Mason@ed.gov.

If you are deaf, hard of hearing, or have a speech disability and wish to access telecommunications relay services, please dial 7-1-1.

SUPPLEMENTARY INFORMATION: On August 12, 2022, we published the NIA for the Postsecondary Student Success Program competition in the Federal Register (87 FR 49811), and we published an NIA correction notice on September 16, 2022 (87 FR 56937). Under the NIA, applications are due on October 11, 2022. We are extending the deadline date for transmittal of applications for affected applicants, which are applicants from: Puerto Rico due to a declared disaster caused by Hurricane Fiona (https://www.fema.gov/disaster/4671); the portions of Alaska with declared disaster designations caused by ex-Typhoon Merbok (https://www.fema.gov/disaster/4672); and areas under a Presidential major disaster or emergency declaration resulting from Hurricane Ian, which include Florida (https://www.fema.gov/disaster/4673), the Seminole Tribe of Florida (https://www.fema.gov/disaster/4675), North Carolina (https://www.fema.gov/disaster/3586), and South Carolina (https://www.fema.gov/disaster/3585) in order to allow applicants from these jurisdictions more time to prepare and submit their applications.

Eligibility: The application deadline extension applies only to eligible applicants under the Postsecondary Student Success competition that are affected applicants. An eligible applicant for this competition is defined in the NIA. To qualify as an affected applicant, the applicant must have a mailing address that is located in one of the federally declared disaster areas listed above and must provide appropriate supporting documentation, if requested.

Affected applicants that have already timely submitted applications under the FY 2022 Postsecondary Student Success competition may submit a new application on or before the new application deadline of October 18, 2022, but they are not required to do so. If a new application is not submitted, the Department will use the application that was submitted by the original deadline. If a new application is submitted, the Department will consider the application that is last submitted and timely received by 11:59:59 p.m., Eastern Time, on October 18, 2022. Any application submitted by an affected applicant under the extended deadline must contain evidence (e.g., the applicant organization's mailing address) that the applicant is located in one of the applicable federally declared disaster areas and, if requested, must provide appropriate supporting documentation.

The application period is not extended for all applicants. Applications from applicants that are not affected, as defined above, will not be accepted past the original October 11, 2022, application deadline.

Note: All requirements and conditions in the NIA, as corrected on September 16, 2022, remain the same, except for the deadline date for affected applicants.

Program Authority: Sections 741-745 of the Higher Education Act of 1965, as amended, 20 U.S.C. 1138-1138d, the Explanatory Statement accompanying Division H of the Consolidated Appropriations Act, 2022 (Pub. L. 117- 103).

Accessible Format: On request to the contact person listed under FOR FURTHER INFORMATION CONTACT, individuals with disabilities can obtain this notice, the NIA, the NIA correction notice, and a copy of the application in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Nasser Paydar,
Assistant Secretary for Postsecondary Education.

[FR Doc. 2022-22143 Filed 10-7-22; 8:45 am]

BILLING CODE 4000-01-P